DEPARTMENT OF COMMERCE

Foreign-Trade Zones Board

[Docket 35-2003]

Foreign-Trade Zone 33—Pittsburgh, PA, Application for Subzone Status, Mitsubishi Electric Power Products, Inc. (Circuit Breakers), Warrendale and Freedom, PA

An application has been submitted to the Foreign-Trade Zones Board (the Board) by the Regional Industrial Development Corporation of Southwestern Pennsylvania, grantee of FTZ 33, requesting special-purpose subzone status for the circuit breaker manufacturing facilities of Mitsubishi Electric Power Products, Inc. (MEPPI) (a subsidiary of Mitsubishi Electric Corporation, of Japan), located in Warrendale and Freedom, Pennsylvania. The application was submitted pursuant to the provisions of the Foreign-Trade Zones Act, as amended (19 U.S.C. 81a-81u), and the regulations of the Board (15 CFR part 400). It was formally filed on July 16, 2003.

The proposed subzone would be comprised of three separate facilities: Site 1 (7 acres/76,000 sq. ft., manufacturing plant)—510-512 Keystone Drive, Warrendale (Allegheny County), Pennsylvania; Site 2 (12 acres/50,000 sq. ft., manufacturing plant)—530 Keystone Drive, Warrendale, about 20 miles northwest of Pittsburgh; and, Site 3 (5 acres/14,000 sq. ft., leased warehouse)—Buildings 3 and 3A, Tri-County Commerce Park, 2509 Lovi Road, Freedom (Beaver County), Pennsylvania, some 5 miles west of Site 1. The facilities (190 employees) are used to assemble and repair high-voltage circuit breakers (HTSUS Heading 8535) for export and the U.S. market. Up to 600 units can be produced annually. The circuit breakers (1,000+ volts) are assembled from domestic and foreign-origin components. Components purchased from abroad (representing approximately 50% of finished circuit breaker value) include: mechanisms, moving and stationary interrupters, trip coils, DC motors, auxiliary switches, porcelain and composite insulators, and tanks (duty rate range: free—4.0%). FTZ procedures would exempt MEPPI from Customs duty payments on the foreign materials used in export production. On its domestic sales and exports to NAFTA markets, the company would be able to choose the duty rate that applies to finished circuit breakers (2.0%) for the foreign-sourced components noted above. The application indicates that subzone status would help improve the facilities' international competitiveness.

In accordance with the Board's regulations, a member of the FTZ Staff has been designated examiner to investigate the application and report to the Board.

Public comment on the application is invited from interested parties. Submissions (original and three copies) shall be addressed to the Board's Executive Secretary at the following addresses:

1. Submissions via Express/Package Delivery Services: Foreign-Trade Zones Board, U.S. Department of Commerce, Franklin Court Building—Suite 4100W, 1099 14th Street, NW., Washington, DC 20005; or,

2. Submissions via the U.S. Postal Service: Foreign-Trade Zones Board, U.S. Department of Commerce, FCB-4100W, 1401 Constitution Ave., NW., Washington, DC 20230.

The closing period for their receipt is September 26, 2003. Rebuttal comments in response to material submitted during the foregoing period may be submitted during the subsequent 15-day period (to October 14, 2003).

A copy of the application will be available for public inspection at the Office of the Foreign-Trade Zones Board's Executive Secretary at address No. 1 listed above and at the U.S. Department of Commerce Export Assistance Center, Suite 2002, 1000 Liberty Avenue, Pittsburgh, PA 15222.

Dated: July 16, 2003.
Dennis Puccinelli,
Executive Secretary.

[FR Doc. 03-19142 Filed 7-25-03; 8:45 am]

BILLING CODE 3510-DS-P